DEPARTMENT OF TRANSPORTATION

Federal Aviation Administration

14 CFR Part 39

[Docket No. 2001-NM-191-AD; Amendment 39-12291; AD 2001-13-11]

RIN 2120-AA64

Airworthiness Directives; Dassault Model Falcon 10 Series Airplanes

AGENCY: Federal Aviation Administration, DOT.

ACTION: Final rule; request for comments.

SUMMARY: This amendment adopts a new airworthiness directive (AD) that is applicable to all Dassault Model Falcon 10 series airplanes. This action requires an inspection to verify proper installation of the pins in the dual non-return valves of the fire extinguishing system for the engines, and replacement of any defective valve with a new valve. This action is necessary to prevent failure of a fire extinguisher bottle to discharge, which could result in the inability to extinguish a fire in an engine. This action is intended to address the identified unsafe condition.

DATES: Effective July 12, 2001.

The incorporation by reference of certain publications listed in the regulations is approved by the Director of the Federal Register as of July 12, 2001.

Comments for inclusion in the Rules Docket must be received on or before July 27, 2001.

ADDRESSES: Submit comments in triplicate to the Federal Aviation Administration (FAA), Transport Airplane Directorate, ANM-114, Attention: Rules Docket No. 2001-NM-191-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via the Internet must contain “Docket No. 2001-NM-191-AD” in the subject line and need not be submitted in triplicate. Comments sent via fax or the Internet as attached electronic files must be formatted in Microsoft Word 97 for Windows or ASCII text.

The service information referenced in this AD may be obtained from Dassault Falcon Jet, P.O. Box 2000, South Hackensack, New Jersey 07606. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France recently notified the FAA that an unsafe condition may exist on all Dassault Model Falcon 10 series airplanes. The DGAC advises that, during routine maintenance, when removing a fire extinguishing bottle that had accidentally discharged, it was found that the charge from the bottle had been trapped in the discharge line. Investigation revealed that a pin had not been correctly installed in the non-return valve during manufacture. The pin is normally located across the valve body to prevent the shuttle-ball from blocking the outlet to the engine. If the pin is located too close to the edge of the valve body, the shuttle-ball may block the discharge outlet and prevent the charge from releasing into the engine during an engine fire. Such conditions, if not corrected, could result in the inability to extinguish a fire in an engine.

Explanation of Relevant Service Information

Dassault has issued Service Bulletin F10-A291, dated June 1, 2001, which describes procedures for an inspection to verify proper installation of the pins in the dual non-return valves of the fire extinguishing system for the engines, and replacement of any defective valve with a new valve. A defective valve is described as any valve with a pin found outside the identified tolerance range. Accomplishment of the actions specified in the service bulletin is intended to adequately address the identified unsafe condition. The DGAC classified this service bulletin as mandatory and issued French airworthiness directive T2001-219-025(B), dated June 1, 2001, in order to assure the continued airworthiness of these airplanes in France.

FAA's Conclusions

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Rule

Since an unsafe condition has been identified that is likely to exist or develop on other airplanes of the same type design registered in the United States, this AD is being issued to prevent failure of a fire extinguisher bottle to discharge, which could result in the inability to extinguish a fire in an engine. This AD requires an inspection to verify proper installation of the pins in the dual non-return valves of the fire extinguishing system for the engines, and replacement of any defective valve with a new valve. The actions are required to be accomplished in accordance with the service bulletin described previously.

Difference Between This AD, Service Bulletin, and Foreign Airworthiness Directive

This AD differs from the service bulletin and the parallel French airworthiness directive in that it requires accomplishment of the inspection within 10 days after the effective date of this AD. In developing an appropriate compliance time for this AD, the FAA considered not only the DGAC's recommendation, but the degree of urgency associated with addressing the subject unsafe condition, the average utilization of the affected fleet, and the time necessary to perform the inspection (one hour). In light of all of these factors, the FAA finds a 10-day compliance time for completing the required actions to be warranted, in that it represents an appropriate interval of time allowable for affected airplanes to continue to operate without compromising safety.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-191-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-13-11 Dassault Aviation [Formerly Avions Marcel Dassault-Breguet Aviation (AMD/BA)]: Amendment 39-12291. Docket 2001-NM-191-AD.

Applicability: All Model Falcon 10 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent failure of a fire extinguisher bottle to discharge, which could result in the inability to extinguish a fire in an engine, accomplish the following:

Inspection/Replacement

(a) Within 10 days after the effective date of this AD: Do an inspection to verify proper installation of the pins in the dual non-return valves of the fire extinguishing system for the engines, per the Accomplishment Instructions of Dassault Service Bulletin F10-A291, dated June 1, 2001. Before further flight, replace any defective valve (pin outside the identified tolerance range) with a new valve per the service bulletin.

Spares

(b) As of the effective date of this AD, no person shall install a dual non-return valve, part number 39299500, on any airplane, unless it has been inspected per paragraph (a) of this AD; the pin is within the specified tolerance range; and the valve is marked with a “C,” per Figure 1 of the Accomplishment Instructions of Dassault Service Bulletin F10-A291, dated June 1, 2001.

Alternative Methods of Compliance

(c) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Incorporation by Reference

(e) The inspection and replacement shall be done in accordance with Dassault Service Bulletin F10-A291, dated June 1, 2001. This incorporation by reference was approved by the Director of the Federal Register in accordance with 5 U.S.C. 552(a) and 1 CFR part 51. Copies may be obtained from Dassault Falcon Jet, P.O. Box 2000, South Hackensack, New Jersey 07606. Copies may be inspected at the FAA, Transport Airplane Directorate, 1601 Lind Avenue, SW., Renton, Washington; or at the Office of the Federal Register, 800 North Capitol Street, NW., suite 700, Washington, DC.

Note 3: The subject of this AD is addressed in French airworthiness directive T2001-219-025(B), dated June 1, 2001.

Effective Date

(f) This amendment becomes effective on July 12, 2001.

Issued in Renton, Washington, on June 19, 2001.
Kalene C. Yanamura,
Acting Manager, Transport Airplane Directorate, Aircraft Certification Service.

[FR Doc. 01-15938 Filed 6-26-01; 8:45 am]

BILLING CODE 4910-13-P